DEPARTMENT OF HOMELAND SECURITY

[Docket No. DHS-2019-0057]

Understanding Public Perception and Acceptance of First Responders Use of Unmanned Aircraft Systems

AGENCY: Science and Technology Directorate (S&T), Department of Homeland Security (DHS).

ACTION: 30-Day Notice of Information Collection; New request for comment, 1640-NEW.

SUMMARY: The Department of Homeland Security (DHS), Science and Technology Directorate (S&T) seeks to submit the following Information Collection Request (ICR) to the Office of Management and Budget (OMB) for review and clearance in accordance with the Paperwork Reduction Act of 1995. The survey of Understanding Public Perception and Acceptance of First Responders Use of Unmanned Aircraft Systems (UAS) is the application of unmanned aircraft systems (UAS) to firefighting, law enforcement, and emergency medical missions. First responder organizations have used UAS to search for lost children, identify high risk areas in burning structures, facilitate relief operations following hurricanes, reduce risk and exposure for law enforcement officers in active-shooter events, and many other use cases. The primary purpose of this survey is to understand the public perception of and identify concerns with current and potential uses of UAS technology by first responders. The survey will ask respondents to report their demographic characteristics, their knowledge of unmanned aircraft systems (UAS), their knowledge of the use of UAS by first responders, their overall trust in the use of new technologies by the government and first responders, their general attitudes about such use, and their opinions about the use of drones by first responders for specific applications like search-and-rescue. The survey will also ask respondents to evaluate the effectiveness of different test messages that we have created to deliver information to the public about first responder drone applications.

DATES: Comments are encouraged and accepted until July 9, 2020.

ADDRESSES: Interested persons are invited to submit written comments on this proposed information collection to the Office of Information and Regulatory Affairs, Office of Management and Budget. Comments, identified by docket number DHS-2019-0057, should be submitted via the Federal eRulemaking Portal: https://www.regulations.gov. The comments submitted via this method are visible to the Office of Management and Budget and comply with the requirements of 5 CFR 1320.12(c). Please follow the instructions on the site for submitting comments.

FOR FURTHER INFORMATION CONTACT: DHS/S&T/OSE/TCD Program Manager: Kathleen Deloughery, kathleen.deloughery@hq.dhs.gov or (202) 254-6189 (Not a toll free number).

SUPPLEMENTARY INFORMATION: DHS, in accordance with the Paperwork Reduction Act (PRA), 44 U.S.C. 3501 et seq., provides the general public and Federal agencies with an opportunity to comment on proposed, revised, and continuing collections of information. DHS is soliciting comments on the proposed information collection request (ICR) that is described below. DHS is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology? Please note that written comments received in response to this notice will be considered public records.

Title of Collection: Understanding Public Perception and Acceptance of First Responders Use of Unmanned Aircraft Systems.

Prior Federal Register Document: 85 FR 7570, Volume 85 No. 27, Dated Feb 10, 2020.

Type of Review: New Information Collection.

Respondents/Affected Public: Individuals and Households.

Frequency of Collection: One per request.

Average Burden per Response: 20 minutes or under.

Total Estimated Number of Annual Responses: 2,000.

Total Estimated Number of Annual Burden Hours: 660.

Dated: May 11, 2020.
Gregg Piermarini,
Chief Information Officer, Science and Technology Directorate.

[FR Doc. 2020-12378 Filed 6-8-20; 8:45 am]

BILLING CODE 9110-9F-P